DEPARTMENT OF ENERGY

Federal Energy Regulatory Commission

Combined Notice of Filings #1

Take notice that the Commission received the following electric rate filings:

Docket Numbers: ER24-1676-001.

Applicants: MEMS Industrial Supply LLC.

Description: Tariff Amendment: Amendment to 1 to be effective 4/2/2024.

Filed Date: 6/28/24.

Accession Number: 20240628-5092.

Comment Date: 5 p.m. ET 7/19/24.

Docket Numbers: ER24-2292-001.

Applicants: Tri-State Generation and Transmission Association, Inc.

Description: Tariff Amendment: Errata Filing to Correct Effective Date for Rate Schedule FERC No. 372 to be effective 5/30/2024.

Filed Date: 6/28/24.

Accession Number: 20240628-5069.

Comment Date: 5 p.m. ET 7/19/24.

Docket Numbers: ER24-2394-000.

Applicants: Cataract Coast, LLC, Aurora Trading Company, LLC, Venturi Asset Management, LLC.

Description: Baseline eTariff Filing: Cataract Coast, LLC submits tariff filing per 35.12: Cataract Coast LLC MBR Application Filing to be effective 6/28/2024.

Filed Date: 6/27/24.

Accession Number: 20240627-5237.

Comment Date: 5 p.m. ET 7/18/24.

Docket Numbers: ER24-2395-000.

Applicants: Aurora Trading Company, LLC.

Description: Tariff Amendment: EnerPenn USA LLC Notice of MBR Cancellation Filing to be effective 6/28/2024.

Filed Date: 6/27/24.

Accession Number: 20240627-5240.

Comment Date: 5 p.m. ET 7/18/24.

Docket Numbers: ER24-2396-000.

Applicants: Venturi Asset Management, LLC.

Description: Baseline eTariff Filing: Venturi Asset Management MBR Application Filing to be effective 6/28/2024.

Filed Date: 6/27/24.

Accession Number: 20240627-5243.

Comment Date: 5 p.m. ET 7/18/24.

Docket Numbers: ER24-2397-000.

Applicants: Southwest Power Pool, Inc.

Description: § 205(d) Rate Filing: Revisions to Add the Winter Season Resource Adequacy Requirement to be effective 1/1/2025.

Filed Date: 6/28/24.

Accession Number: 20240628-5005.

Comment Date: 5 p.m. ET 7/19/24.

Docket Numbers: ER24-2398-000.

Applicants: PJM Interconnection, L.L.C.

Description: § 205(d) Rate Filing: GDECS Revisions to Tariff, OA and RAA re: Generation Interconnection Process to be effective 8/28/2024.

Filed Date: 6/28/24.

Accession Number: 20240628-5013.

Comment Date: 5 p.m. ET 7/19/24.

Docket Numbers: ER24-2399-000.

Applicants: Aurora Trading Company, LLC.

Description: Baseline eTariff Filing: Aurora Trading Company MBR Application Filing to be effective 6/28/2024.

Filed Date: 6/28/24.

Accession Number: 20240628-5037.

Comment Date: 5 p.m. ET 7/19/24.

Docket Numbers: ER24-2400-000.

Applicants: New York State Electric & Gas Corporation.

Description: § 205(d) Rate Filing: Rate Schedule FERC No. 87 Supplement to be effective 9/1/2024.

Filed Date: 6/28/24.

Accession Number: 20240628-5056.

Comment Date: 5 p.m. ET 7/19/24.

Docket Numbers: ER24-2401-000.

Applicants: PJM Interconnection, L.L.C.

Description: Tariff Amendment: Notice of Cancellation of ISA, SA No. 5863; Queue No. AE2-249 to be effective 6/22/2024.

Filed Date: 6/28/24.

Accession Number: 20240628-5064.

Comment Date: 5 p.m. ET 7/19/24.

Docket Numbers: ER24-2402-000.

Applicants: MATL LLP.

Description: § 205(d) Rate Filing: Concurrence in NorthernGrid Funding Agreement to be effective 1/1/2024.

Filed Date: 6/28/24.

Accession Number: 20240628-5066.

Comment Date: 5 p.m. ET 7/19/24.

Docket Numbers: ER24-2403-000.

Applicants: Midcontinent Independent System Operator, Inc., American Transmission Company LLC.

Description: § 205(d) Rate Filing: Midcontinent Independent System Operator, Inc. submits tariff filing per 35.13(a)(2)(iii): 2024-06-28_SA 4305 ATC-City of Neguanee CFA to be effective 8/28/2024.

Filed Date: 6/28/24.

Accession Number: 20240628-5068.

Comment Date: 5 p.m. ET 7/19/24.

Docket Numbers: ER24-2404-000.

Applicants: Tri-State Generation and Transmission Association, Inc.

Description: § 205(d) Rate Filing: Notice of Cancellation of Rate Schedule No. 367 to be effective 5/30/2024.

Filed Date: 6/28/24.

Accession Number: 20240628-5072.

Comment Date: 5 p.m. ET 7/19/24.

Docket Numbers: ER24-2405-000.

Applicants: NorthWestern Corporation.

Description: § 205(d) Rate Filing: RS 188—Revised Colstrip 1 & 2 Transmission Agreement to be effective 9/1/2024.

Filed Date: 6/28/24.

Accession Number: 20240628-5107.

Comment Date: 5 p.m. ET 7/19/24.

Docket Numbers: ER24-2406-000.

Applicants: Tri-State Generation and Transmission Association, Inc.

Description: § 205(d) Rate Filing: Amendment to Rate Schedule FERC No. 40 to be effective 8/27/2024.

Filed Date: 6/28/24.

Accession Number: 20240628-5110.

Comment Date: 5 p.m. ET 7/19/24.

Docket Numbers: ER24-2407-000.

Applicants: Midcontinent Independent System Operator, Inc., Michigan Electric Transmission Company, LLC.

Description: § 205(d) Rate Filing: Midcontinent Independent System Operator, Inc. submits tariff filing per 35.13(a)(2)(iii): 2024-06-28_SA 4306 METC-DTE E&P (J2673) to be effective 8/28/2024.

Filed Date: 6/28/24.

Accession Number: 20240628-5112.

Comment Date: 5 p.m. ET 7/19/24.

Docket Numbers: ER24-2408-000.

Applicants: Duke Energy Florida, LLC, Duke Energy Carolinas, LLC.

Description: § 205(d) Rate Filing: Duke Energy Florida, LLC submits tariff filing per 35.13(a)(2)(iii): DEF—Revisions to Attachment J to Joint OATT (LGIP/LGIA) to be effective 9/1/2024.

Filed Date: 6/28/24.

Accession Number: 20240628-5113.

Comment Date: 5 p.m. ET 7/19/24.

Docket Numbers: ER24-2409-000.

Applicants: Midcontinent Independent System Operator, Inc., International Transmission Company.

Description: § 205(d) Rate Filing: Midcontinent Independent System Operator, Inc. submits tariff filing per 35.13(a)(2)(iii): 2024-06-28_SA 4307 ITCTransmission-DTE E&P (J1917) to be effective 8/28/2024.

Filed Date: 6/28/24.

Accession Number: 20240628-5118.

Comment Date: 5 p.m. ET 7/19/24.

Docket Numbers: ER24-2410-000.

Applicants: Tri-State Generation and Transmission Association, Inc.

Description: § 205(d) Rate Filing: Initial Filing of Rate Schedule FERC No. 375 to be effective 5/30/2024.

Filed Date: 6/28/24.

Accession Number: 20240628-5137.

Comment Date: 5 p.m. ET 7/19/24.

Docket Numbers: ER24-2411-000.

Applicants: Vermont Transco LLC.

Description: § 205(d) Rate Filing: 2024 Annual Exhibit A Information Filing for the 1991 Transmission Agreement to be effective 7/1/2024.

Filed Date: 6/28/24.

Accession Number: 20240628-5148.

Comment Date: 5 p.m. ET 7/19/24.

Docket Numbers: ER24-2412-000.

Applicants: Tri-State Generation and Transmission Association, Inc.

Description: Tariff Amendment: Notice of Cancellation of Rate Schedule No. 355 to be effective 5/30/2024.

Filed Date: 6/28/24.

Accession Number: 20240628-5154.

Comment Date: 5 p.m. ET 7/19/24.

Docket Numbers: ER24-2413-000.

Applicants: Tri-State Generation and Transmission Association, Inc.

Description: § 205(d) Rate Filing: Amendment to Rate Schedule FERC No. 42 to be effective 8/27/2024.

Filed Date: 6/28/24.

Accession Number: 20240628-5158.

Comment Date: 5 p.m. ET 7/19/24.

Docket Numbers: ER24-2414-000.

Applicants: Alabama Power Company, Georgia Power Company, Mississippi Power Company.

Description: § 205(d) Rate Filing: Alabama Power Company submits tariff filing per 35.13(a)(2)(iii): Hawkinsville Solar LGIA Filing to be effective 6/14/2024.

Filed Date: 6/28/24.

Accession Number: 20240628-5177.

Comment Date: 5 p.m. ET 7/19/24.

Docket Numbers: ER24-2415-000.

Applicants: Southwest Power Pool, Inc.

Description: § 205(d) Rate Filing: 1276R34 Evergy Metro NITSA NOA to be effective 9/1/2024.

Filed Date: 6/28/24.

Accession Number: 20240628-5223.

Comment Date: 5 p.m. ET 7/19/24.

Docket Numbers: ER24-2416-000.

Applicants: NorthWestern Corporation.

Description: § 205(d) Rate Filing: SA 968—Firm PTP TSA with Avista Corp. to be effective 8/30/2024.

Filed Date: 6/28/24.

Accession Number: 20240628-5226.

Comment Date: 5 p.m. ET 7/19/24.

Docket Numbers: ER24-2417-000.

Applicants: New York Independent System Operator, Inc., Rochester Gas and Electric Corporation.

Description: § 205(d) Rate Filing: New York Independent System Operator, Inc. submits tariff filing per 35.13(a)(2)(iii): NYISO-RG&E Joint 205: EPCA with Trelina Solar SA2844 to be effective 6/14/2024.

Filed Date: 6/28/24.

Accession Number: 20240628-5252.

Comment Date: 5 p.m. ET 7/19/24.

Docket Numbers: ER24-2418-000.

Applicants: Sparta Energy, Inc.

Description: Baseline eTariff Filing: Sparta Energys MBR Application Filing to be effective 8/27/2024.

Filed Date: 6/28/24.

Accession Number: 20240628-5254.

Comment Date: 5 p.m. ET 7/19/24.

Docket Numbers: ER24-2424-000.

Applicants: Puget Sound Energy, Inc.

Description: § 205(d) Rate Filing: Service Agreement No. SA-5009 to be effective 6/1/2024.

Filed Date: 6/28/24.

Accession Number: 20240628-5274.

Comment Date: 5 p.m. ET 7/19/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 28, 2024.
Debbie-Anne A. Reese,
Acting Secretary.

[FR Doc. 2024-14773 Filed 7-5-24; 8:45 am]

BILLING CODE 6717-01-P